FEDERAL COMMUNICATIONS COMMISSION

Notice of Public Information Collection(s) Being Reviewed by the Federal Communications Commission for Extension Under Delegated Authority, Comments Requested

April 16, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning whether the proposed collection of information is necessary for the proper performance of the functions of the Commission, including whether the information shall have practical utility; the accuracy of the Commission's burden estimate; ways to enhance the quality, utility, and clarity of the information collected; and ways to minimize the burden of the collection of information on the respondents, including the use of automated collection techniques or other forms of information technology.

DATES: Persons wishing to comment on this information collection should submit comments June 24, 2002. If you anticipate that you will be submitting comments, but find it difficult to do so within the period of time allowed by this notice, you should advise the contact listed below as soon as possible.

ADDRESSES: Direct all comments to Judy Boley Herman, Federal Communications Commission, 445 12th Street, SW., Room 1-C804, Washington, DC 20554 or via the internet to jboley@fcc.gov.

FOR FURTHER INFORMATION CONTACT: For additional information or copies of the information collections contact Judy Boley Herman at 202-418-0214 or via the internet at jboley@fcc.gov.

SUPPLEMENTARY INFORMATION: OMB Control No.: 3060-0882.

Title: Section 95.833, Construction Requirements.

Form No.: N/A.

Type of Review: Extension of a currently approved collection.

Respondents: Individuals or households, business or other for-profit.

Number of Respondents: 1,468.

Estimated Time Per Response: 1 hour.

Total Annual Burden: 1,468 hours.

Annual Reporting and Recordkeeping Cost Burden: $0.

Frequency of Response: Ten year reporting requirement.

Needs and Uses: This rule section is necessary for 218-219 MHz service system licensees to file a report after ten years of license grant to demonstrate that they provide substantial service to its service areas. The information is used by the Commission staff to assess compliance with 218-219 MHz service construction requirements, and to provide adequate spectrum for the service. This will facilitate spectrum efficiency and competition by the 218-219 MHz licensees in the wireless marketplace. Without this information, the Commission would not be able to carry out its statutory responsibilities.

OMB Control No.: 3060-0223.

Title: Section 90.129, Supplemental Information to be Routinely Submitted with Applications, Non-Type Accepted Equipment.

Form No.: N/A.

Type of Review: Extension of a currently approved collection.

Respondents: Individuals or households, businesses or other for-profit, not-for-profit institutions, and state, local or tribal government.

Number of Respondents: 100.

Estimated Time Per Response: .33 hours (or 20 minutes).

Total Annual Burden: 33 hours.

Annual Reporting and Recordkeeping Cost Burden: $0.

Frequency of Response: On occasion reporting requirement.

Needs and Uses: Section 90.129 requires applicants proposing to use transmitting equipment that is not type-certified by FCC laboratory personnel to provide a description of the proposed equipment. This assures that the equipment is capable of performing within certain tolerances that limit the interference potential of the device. The information collected is used by FCC engineers to determine the interference potential of the proposed equipment.

OMB Control No.: 3060-0881.

Title: Section 95.861, Interference.

Form No.: N/A.

Type of Review: Extension of a currently approved collection.

Respondents: Individuals or households, business or other for-profit.

Number of Respondents: 400.

Estimated Time Per Response: .5 hours.

Total Annual Burden: 200 hours.

Annual Reporting and Recordkeeping Cost Burden: $0.

Frequency of Response: Recordkeeping requirement, third party disclosure requirement, and on occasion reporting requirement.

Needs and Uses: The notification requirement contained in Section 95.861 requires 218-219 MHz licensees to notify all households located both within a TV Channel 13 Grade B contour and an 218-219 MHz system service area are aware of potential interference to Channel 13 TV reception. This requirement is intended to prevent potential interference from 218-219 MHz operations to TV Channel 13 reception.

OMB Control No.: 3060-0695.

Title: Section 87.219, Automatic Operations.

Form No.: N/A.

Type of Review: Extension of a currently approved collection.

Respondents: Business or other for-profit.

Number of Respondents: 50.

Estimated Time Per Response: 0.7 hours.

Total Annual Burden: 35 hours.

Annual Reporting and Recordkeeping Cost Burden: $5,500.

Frequency of Response: Recordkeeping requirement and on occasion reporting requirement.

Needs and Uses: This rule requires that if airports have control towers or Federal Aviation Administration (FAA) flight service stations, and more than one licensee and want to have an automated aeronautical advisory station (unicom), they must write an agreement and keep a copy of the agreement with each licensee's station authorization. The information will be used by compliance personnel for enforcement purposes and by licensees to clarify responsibility in operating unicom.

Federal Communications Commission.
William F. Caton,
Acting Secretary.

[FR Doc. 02-9868 Filed 4-22-02; 8:45 am]

BILLING CODE 6712-01-P